DEPARTMENT OF THE INTERIOR

National Park Service

[NPS-WASO-NRNHL-DTS#-25616; PPWOCRADI0, PCU00RP14.R50000]

National Register of Historic Places; Notification of Pending Nominations and Related Actions

AGENCY: National Park Service, Interior.

ACTION: Notice.

SUMMARY: The National Park Service is soliciting comments on the significance of properties nominated before May 12, 2018, for listing or related actions in the National Register of Historic Places.

DATES: Comments should be submitted by June 14, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before May 12, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARKANSAS

Washington County

North Mock Street Historic District, 114 & 116 N Mock St., Prairie Grove, SG100002566

Prairie Grove Commercial Historic District, Odd numbers 107-305 E Buchanan & 123 S Neal Sts., Prairie Grove, SG100002567

FLORIDA

Hardee County

Downtown Wauchula Historic District, Roughly bounded by W Palmetto & W Orange Sts., N 4th & N Florida Aves., Wauchula, SG100002568

IDAHO

Bonner County

Sandpoint Historic District (Boundary Increase), Roughly bounded by Pine & Cedar Sts., 1st, 2nd & 3rd Aves., Sandpoint, BC100002570

ILLINOIS

Randolph County

Old Fire Station, 822 Swanwick, Chester, SG100002571

Weinrich, Christian F., 217 Opdyke St., Chester, SG100002572

Weister, Frederick, House, 515 Chestnut St., Chester, SG100002573

St. Clair County

Hotel Belleville, 16 S Illinois St., Belleville, SG100002574

IOWA

Audubon County

Ross Grain Elevator, 5940 Main St., Audubon vicinity, SG100002575

LOUISIANA

Acadia Parish

St. Theresa Catholic Church and School, 417 W 3rd St., Crowley, SG100002576

Calcasieu Parish

Carver Courts LA-4, 1300 N Goos Blvd., Lake Charles, SG100002577

Clark Courts LA-4-3, 1703 Pear St., Lake Charles, SG100002578

Grant Parish

Colfax Jail, Roughly bounded by Colfax City Cemetery, Faircloth & 4th Sts., Colfax, SG100002579

Natchitoches Parish

Vallery, Jacquitte, Cabin, 382 Vallery Rd., Chopin, SG100002580

Orleans Parish

Building at 1601 Lafitte Avenue, 1601 Lafitte Ave., New Orleans, SG100002581

Building at 1621 Lafitte Avenue, 1621 Lafitte Ave., New Orleans, SG100002582

Perseverance Benevolent and Mutual Aid Society Hall, 1644 Villere St., New Orleans, SG100002583

Plaquemines Parish

St. Thomas the Apostle Catholic Church and Cemetery, 17605 LA 15, Pointe a la Hache, SG100002585

Pointe Coupee Parish

Mix Store and Post Office, 9253 False River Rd., New Roads, SG100002587

Rapides Parish

Bohemian Community Hall, 94 Industrial Rd., Libuse, SG100002586

Downtown Alexandria Commercial Historic District, Bounded by 2nd, Jackson, Beauregard, 4th, 5th, 6th, Murray, Washington & Lee Sts., Alexandria, SG100002588

St. Bernard Parish

Ford Motor Company Assembly Plant, 7200 N Peters St., Arabi, SG100002589

Terrebonne Parish

Fifth District High School, 918 Roussell St., Houma, SG100002590

MAINE

Cumberland County

Crescent Lodge, 1 Wheeler Rd., Cape Elizabeth, SG100002591

Stover, Capt. Johnson H. Jr., House, 1691 Harpswell Neck Rd., Harpswell, SG100002592

Oxford County

Union School, 392 Church St., Hartford, SG100002593

York County

Memorial Chapel, 55 Cemetery Rd., Berwick, SG100002594

NORTH CAROLINA

Haywood County

Haywood County Hospital, 1230 N Main St., Waynesville, SG100002596

Nash County

Castalia School, (Rosenwald School Building Program in North Carolina MPS), 10445 Lancaster Store Rd., Castalia, MP100002597

OREGON

Yamhill County

Wennerberg, John B., Barn, 501 S Park St., Carlton, SG100002598

SOUTH CAROLINA

Marion County

Richardson-Godbold House, 8447 S SC 41, Marion vicinity, SG100002599

York County

Carroll Rosenwald School (Rosenwald School Building Program in South Carolina, 1917-1932), 4789 Mobley Store Rd., Rock Hill vicinity, MP100002600

TEXAS

Harris County

Schlumberger Well Surveying Corporation Building, 2720 Leeland St., Houston, SG100002601

W-K-M Company, Inc. Historic District, Roughly bounded by Commerce, Sampson, Preston & Velasco Sts., Houston, SG100002602

Travis County

Cambridge Tower, 1801 Lavaca St., Austin, SG100002603

VERMONT

Windsor County

Norwich Mid-Century Modern Historic District, Parts of Hopson, Pine Tree & Spring Pond Rds., Norwich, SG100002604

WASHINGTON

Okanogan County

Saint Mary's Mission, Address Restricted, Omak vicinity, SG100002609

WISCONSIN

Ashland County

ANTELOPE (schooner-barge) Shipwreck (Great Lakes Shipwreck Sites of Wisconsin MPS), 7.5 mi. SE of Michigan Island in L. Superior M, La Pointe vicinity, MP100002610

Brown County

Neufeld, Albert C. and Ellen H., House, 204 W Whitney St., Allouez, SG100002611

Manitowoc County

ARCTIC (tug) Shipwreck, (Great Lakes Shipwreck Sites of Wisconsin MPS), 1.5 mi. NE of the Manitowoc Breakwater Light in L. Michigan, Manitowoc vicinity, MP100002612

A request to move has been received for the following resource:

UTAH

Cache County

Clarkston Tithing Granary (Tithing Offices and Granaries of the Mormon Church TR), 10212 N. 8700 West, Clarkston, MV85000250

Additional documentation has been received for the following resources:

ARIZONA

Maricopa County

Windsor Square Historic District, Roughly bounded by 7th St., Camelback Rd., Central St., and Oregon Ave., Phoenix, AD00001499

Evergreen Historic District, 456 N Robson St. & 463 N Macdonald, Mesa, AD99000706

LOUISIANA

Orleans Parish

Vieux Carre Historic District, Bounded by the Mississippi River, Rampart and Canal Sts., and Esplanade Ave., New Orleans, AD66000377

VIRGINIA

Virginia Beach Independent City

Thoroughgood House, E of Norfolk on Lynnhaven River, Virginia Beach (Independent City), AD66000921

Nomination submitted by Federal Preservation Officer:

The State Historic Preservation Officer reviewed the following nomination and responded to the Federal Preservation Officer within 45 days of receipt of the nomination and supports listing the property in the National Register of Historic Places.

GEORGIA

Laurens County

United States Post Office and Court House, 100 N Franklin St., Dublin, SG100002569

Authority: Section 60.13 of 36 CFR part 60.

Dated: May 17, 2018.
Christopher Hetzel,
Acting Chief, National Register of Historic Places/National Historic Landmarks Program.

[FR Doc. 2018-11530 Filed 5-29-18; 8:45 am]

BILLING CODE 4312-52-P